TENNESSEE VALLEY AUTHORITY

Sunshine Act Meeting

Agency Holding the Meeting: Tennessee Valley Authority (Meeting No. 1557).

Time and Date: 9 a.m. (e.s.t.), January 18, 2005, The Pollard Technology Conference Center, 210 Badger Avenue, Oak Ridge, Tennessee.

Status: Open.

Agenda: Approval of minutes of meeting held on November 30, 2004.

New Business

C—Energy

C1. Contract with Porter-Walker, LLC, for industrial supplies, nonpower hand tools, and safety supplies at any TVA location.

C2. Contract with Framatome ANP for reactor pressure vessel head inspections and repairs at the Watts Bar and Sequoyah Nuclear Plants.

C3. Contract with Frham Safety Products, Inc., for health physics supplies and equipment for any TVA nuclear site.

C4. Supplement to contract with Framatome ANP, Inc., for refuel floor support services and reactor component inspections for Browns Ferry Nuclear Plant Units 2 and 3.

C5. Supplement to Contract No. 2767 with Babcock and Wilcox for pulverizer parts and technical services.

C6. Contracts with Mega Power, Inc., and Listerhill Total Maintenance Center for various plant equipment repair and machining services for any TVA location.

C7. Contract with Alstom Power, Inc., for supply of labor, materials, parts and services for maintenance and repair of Alstom (formerly Combustion Engineering) boilers in service at various TVA fossil plants.

E—Real Property Transactions

E1. Extension of a term recreation easement for 1 year to Boys Scouts of America, National Council, affecting approximately 354 acres of land on Kentucky Reservoir in Marshall County, Kentucky, Tract No. XGIR-906RE, S.1X.

E2. Sale of a permanent easement to Mike Proulx for the expansion of an existing sewer line easement, affecting approximately .02 acre of TVA land on Fulton Springs Substation in Jefferson County, Alabama, Tract No. XFLSS-2S.

E3. Sale of a noncommercial, nonexclusive permanent easement to Bill Kittrell for construction and maintenance of recreational water-use facilities, affecting approximately .61 acre of TVA land on Tellico Reservoir in Loudon County, Tennessee, Tract No. XTELR-248RE.

E4. Sale of a noncommercial, nonexclusive permanent easement to Kenneth and Constance Goff for construction and maintenance of recreational water-use facilities, affecting approximately .2 acre of land on Tellico Reservoir in Loudon County, Tennessee, Tract No. XTELR-247RE.

E5. Grant of a permanent easement to the town of Bryson City, North Carolina, for expansion of a waste water treatment plant, affecting approximately .87 acre of TVA land on Fontana Reservoir in Swain County, North Carolina, Tract No. XTFR-14SP.

F—Other

F1. Approval to file a condemnation case to acquire right to enter for a TVA power transmission line project affecting the Aspen Grove-Westhaven Transmission Line in Williamson County, Tennessee.

Information Items

1. Approval of temporary measures relating to the transition to a new portfolio of industrial power products.

2. Approval of a grant of a permanent easement to the North Jackson Water Authority for the construction of a raw water intake structure and line, affecting approximately 6.72 acres of TVA land on Guntersville Reservoir in Jackson County, Alabama, Tract No. XTGR-174PS.

3. Approval of a grant of a permanent easement to the Benton/Decatur Counties Special Sewer District for the construction of a sewer line and outfall, affecting approximately 3.6 acres of TVA land on Kentucky Reservoir in Benton County, Tennessee, Tract No. XTGIR-151S.

4. Approval of a delegation of authority to the Executive Vice President, Fossil Power Group, to execute a 20-year contract with Synthetic Materials, Inc., for the dewatering and marketing of scrubber gypsum and approval of related easements.

5. Approval of supplements to the Electric Power Research Institute Membership Contract and Supplemental Funded Projects Agreement.

6. Approval of a public auction sale of the Natural Resources and Forestry Buildings, affecting approximately 5.8 acres of TVA land located in Norris, Tennessee, Tract Nos. XNT-18 and XNOFB-1.

7. Approval of a delegation of authority to the Chief Financial Officer, the Treasurer, or designees, to enter into agreements with financial institutions for the sale of promissory notes that distributors have issued to TVA under TVA's Distributor Financing Program.

8. Amendments to the Provisions of the TVA Savings and Deferral Retirement Plan (401(k) Plan) to provide for certain enhancements to the Plan.

9. Approval of an amendment to the Trust Agreement between the Board of Directors of the TVA Retirement System and Fidelity Management Trust Company.

10. Amendment to the Rules and Regulations of the TVA Retirement System to limit a member's contributions to the System's fixed and variable annuity funds to $10,000 per year and shorten from 12 months to 6 months the suspension period for contributions to the System's annuity funds after taking a hardship withdrawal from the System's 401(k) Plan.

For more information: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: January 11, 2005.
Maureen H. Dunn,
General Counsel and Secretary.

[FR Doc. 05-892 Filed 1-12-05; 9:54 am]

BILLING CODE 8120-08-P